Executive Order 14225 of March 1, 2025

Immediate Expansion of American Timber Production

By the authority vested in me as President by the Constitution and the laws of the United States of America, it is hereby ordered:

Section 1. Purpose. The production of timber, lumber, paper, bioenergy, and other wood products (timber production) is critical to our Nation's well-being. Timber production is essential for crucial human activities like construction and energy production. Furthermore, as recent disasters demonstrate, forest management and wildfire risk reduction projects can save American lives and communities.

The United States has an abundance of timber resources that are more than adequate to meet our domestic timber production needs, but heavy-handed Federal policies have prevented full utilization of these resources and made us reliant on foreign producers. Our inability to fully exploit our domestic timber supply has impeded the creation of jobs and prosperity, contributed to wildfire disasters, degraded fish and wildlife habitats, increased the cost of construction and energy, and threatened our economic security. These onerous Federal policies have forced our Nation to rely upon imported lumber, thus exporting jobs and prosperity and compromising our self-reliance. It is vital that we reverse these policies and increase domestic timber production to protect our national and economic security.

Sec. 2. Directives to the Secretary of the Interior and the Secretary of Agriculture. (a) Within 30 days of the date of this order, the Secretary of the Interior and the Secretary of Agriculture, through the Director of the Bureau of Land Management (BLM) and the Chief of the United States Forest Service (USFS), respectively, shall each issue new or updated guidance regarding tools to facilitate increased timber production and sound forest management, reduce time to deliver timber, and decrease timber supply uncertainty, such as the Good Neighbor Authority described in 16 U.S.C. 2113a, stewardship contracting pursuant to 16 U.S.C. 6591c, and agreements or contracts with Indian tribes under the Tribal Forest Protection Act as contemplated by 25 U.S.C. 3115a. The Secretary of the Interior and the Secretary of Agriculture shall also each submit to the Director of the Office of Management and Budget any legislative proposals that would expand authorities to improve timber production and sound forest management.

(b) Within 60 days of the date of this order, the Secretary of the Interior, through the Director of the United States Fish and Wildlife Service (FWS), and the Secretary of Commerce, through the Assistant Administrator for Fisheries, shall complete a strategy on USFS and BLM forest management projects under section 7 of the Endangered Species Act (ESA) (16 U.S.C. 1536) to improve the speed of approving forestry projects. The Secretary of the Interior, through the Director of the FWS, shall also examine any applicable existing authorities that would permit executive departments and agencies (agencies) to delegate consultation requirements under section 7 of the ESA to other agencies and, if necessary, provide a legislative proposal to ensure consultation is streamlined.

(c) Within 90 days of the date of this order, the Secretary of the Interior and the Secretary of Agriculture shall together submit to the President, through the Assistant to the President for Economic Policy, a plan that sets a target for the annual amount of timber per year to be offered for sale over the next 4 years from Federal lands managed by the BLM and the USFS, measured in millions of board feet.

(d) Within 120 days of the date of this order, the Secretary of the Interior, through the Directors of the FWS and the BLM, and the Secretary of Agriculture, through the Chief of the USFS, shall complete the Whitebark Pine Rangewide Programmatic Consultation under section 7 of the ESA.

(e) Within 180 days of the date of this order, the Secretary of the Interior and the Secretary of Agriculture shall consider and, if appropriate and consistent with applicable law, adopt categorical exclusions administratively established by other agencies to comply with the National Environmental Policy Act and reduce unnecessarily lengthy processes and associated costs related to administrative approvals for timber production, forest management, and wildfire risk reduction treatments.

(f) Within 280 days of the date of this order, the Secretary of the Interior shall consider and, if appropriate and consistent with applicable law, establish a new categorical exclusion for timber thinning and re-establish a categorical exclusion for timber salvage activities.

Sec. 3. Streamlined Permitting. All relevant agencies shall eliminate, to the maximum extent permissible by law, all undue delays within their respective permitting processes related to timber production. Additionally, all relevant agencies shall take all necessary and appropriate steps consistent with applicable law to suspend, revise, or rescind all existing regulations, orders, guidance documents, policies, settlements, consent orders, and other agency actions that impose an undue burden on timber production.

Sec. 4. Endangered Species Committee. (a) Agencies are directed to use, to the maximum extent permissible under applicable law, the ESA regulations on consultations in emergencies to facilitate the Nation's timber production. The Secretary of the Interior, as Chairman of the Endangered Species Committee, shall ensure a prompt and efficient review of all submissions to such committee, to include identification of any legal deficiencies, in order to ensure the timely consideration of exemption applications and, where possible, to resolve such applications before the deadlines set by the ESA.

(b) Federal members of the Endangered Species Committee, or their designees, shall coordinate to develop and submit a report to the President, through the Assistant to the President for Economic Policy, that identifies obstacles to domestic timber production infrastructure specifically deriving from implementation of the ESA and recommends procedural, regulatory, and interagency improvements.

(c) The Secretary of the Interior shall ensure that the Director of the FWS, or the Director's authorized representative, is available to consult promptly with agencies and to take other appropriate action concerning the applicability of the ESA's emergency regulations. The Secretary of Commerce shall ensure that the Assistant Administrator for Fisheries, or the Assistant Administrator's authorized representative, is available for such consultation and to take such other action as may assist in applying the ESA's emergency regulations.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 1, 2025.

[FR Doc. 2025-03695

Filed 3-5-25; 8:45 am]

Billing code 3395-F4-P